DEPARTMENT OF AGRICULTURE

Rural Housing Service

[Docket No.: RHS-24-MFH-0006]

Notice of Funds Availability (NOFA) for the Multifamily Housing Preservation and Revitalization Demonstration Program (MPR) and for Section 515 Subsequent Loans for Preservation Activities for the Fiscal Year (FY) 2024; Correction

AGENCY: Rural Housing Service, United States Department of Agriculture (USDA).

ACTION: Notice of Funding Announcement (NOFA); correction.

SUMMARY: On September 27, 2024, Rural Development's Rural Housing Service (RHS or Agency), an Agency of the United States Department of Agriculture (USDA), published a notice of funds availability (NOFA). The NOFA announced that the Agency is inviting applications for the Multifamily Housing Preservation and Revitalization Demonstration Program (MPR) and section 515 Loan Program. The NOFA contains erroneous information about applicable dates. This document corrects the erroneous dates.

DATES: This notice is applicable on October 23, 2024.

FOR FURTHER INFORMATION CONTACT: Jonathan Bell, Director, Processing and Report Review Branches, Production and Preservation Division, MFH, RD, USDA, via email: MFHprocessing1@usda.gov or telephone: (202) 205-9217 for additional information on this Notice.

Persons with disabilities that require alternative means of communication for program information (e.g., Braille, large print, audiotape, American Sign Language) may contact the Agency or staff office; or the 711 Relay Service.

SUPPLEMENTARY INFORMATION: The Agency is issuing a correction to the NOFA published in the Federal Register at 89 FR 79229. In FR Doc. 2024-22177, appearing on page 79229 in the Federal Register of September 27, 2024, make the following corrections:

1. On page 79231, in the second column, under paragraph “(a)”, in the third line, the date is corrected to read, “January 1, 2028.”

2. On page 79238, in the third column, in item “(4),” on the second and third lines, the date is corrected to read, “January 1, 2028,” and on the fifth and sixth lines, the date is corrected to read, “January 1, 2028.”

3. On page 79239, in the first column, under item number “(5),” on the second line, the date is corrected to read, “January 1, 2028;” on the fifth line, the date is corrected to read “January 1, 2028;” on the tenth, the date is corrected to read “January 1, 2028”.

Yvonne Hsu,
Acting Administrator, Rural Housing Service.

[FR Doc. 2024-24506 Filed 10-22-24; 8:45 am]

BILLING CODE 3410-XV-P